DEPARTMENT OF COMMERCE

International Trade Administration

A-489-815

Notice of Final Determination of Sales at Less Than Fair Value: Light-Walled Rectangular Pipe and Tube from Turkey

AGENCY: Import Administration, International Trade Administration, Department of Commerce.

EFFECTIVE DATE: April 11, 2008.

SUMMARY: The Department of Commerce (the Department) determines that imports of light-walled rectangular pipe and tube from Turkey are being, or are likely to be, sold in the United States at less than fair value, as provided in section 735 of the Tariff Act of 1930, as amended (the Act). The final dumping margins are listed below in the section entitled “Final Determination of Investigation.”

FOR FURTHER INFORMATION CONTACT: Tyler Weinhold, Fred Baker, or Robert James, Import Administration, International Trade Administration, U.S. Department of Commerce, 14th Street and Constitution Avenue, NW, Washington, DC 20230; telephone: (202) 482-1121, (202) 482-2924, or (202) 482-0649, respectively.

SUPPLEMENTARY INFORMATION:

Background

On January 30, 2008, the Department published the preliminary determination of sales at less than fair value (LTFV) in the antidumping investigation of light-walled rectangular pipe and tube from Turkey. See Notice of Preliminary Determination of Sales at Less Than Fair Value: Light-Walled Rectangular Pipe and Tube from Turkey, 73 FR 5508 (January 30, 2008) (Preliminary Determination). We invited parties to comment on the Preliminary Determination. On March 10, 2008, we received a letter from Goktas Tube, a producer/exporter of light-walled rectangular pipe and tube from Turkey. We did not receive any case or rebuttal briefs from any other interested parties.

Period of Investigation

The period of investigation is April 1, 2006, through March 31, 2007.

Scope of Investigation

The merchandise subject to this investigation is certain welded carbon quality light-walled steel pipe and tube, of rectangular (including square) cross section, having a wall thickness of less than 4 mm.

The term carbon-quality steel includes both carbon steel and alloy steel which contains

only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to this investigation is currently classified under the Harmonized Tariff Schedule of the United States (HTSUS) subheadings 7306.61.50.00 and 7306.61.70.60. While HTSUS subheadings are provided for convenience and Customs purposes, our written description of the scope of this investigation is dispositive.

Adverse Facts Available

For the final determination, we continue to find that by failing to respond to our July 31, 2007, abbreviated quantity and value questionnaire, and by failing to respond, or by failing to respond in a timely manner to our follow up letter dated August 16, 2007, Anadolu Boru, Ayata Metal Industy, Kalibre Boru Sanayi ve Ticaret A.S., Kerim Celik Mamulleri Imalat ve Ticaret¹, Ozgur Boru, Ozmak Makina ve Elektrik Sanayi, Seamless Steel Tube and Pipe Co. (Celbor), Umran Steel Pipe Inc., and Yusan Industries, Ltd., producers and/or exporter of light-walled rectangular pipe and tube from Turkey, did not cooperate to the best of their ability in this investigation. See Preliminary Determination, at 5509-5513. Thus, the Department continues to find the use of adverse facts available is warranted for these companies in accordance with sections 776 (a)(2) and (b) of the Act.

Also, we continue to find that, by failing to provide information we requested, mandatory respondents MMZ Onur Boru Profil Uretim San. Ve Tic. A.S. (MMZ) and Guven Boru Profil Sanayii ve Ticaret Limited Sirketi (Guven Boru), did not act to the best of their ability in responding to our questionnaires. Thus, the Department continues to find the use of adverse facts available is warranted for these companies under sections 776 (a)(2) and (b) of the Act. See id.

¹ Kerim Celik Mamulleri Imalat ve Ticaret responded to our follow up letter, but its response was untimely,

Because Goktas Tube did not respond to our abbreviated quantity and value questionnaire or to our follow up letter, we applied adverse facts available to the company in the Preliminary Determination. See id. On March 10, 2008, we received a letter from Goktas Tube claiming that it did not receive our quantity and value questionnaire until January 28, 2008, because it had changed locations and the questionnaire and other correspondence was sent to its old address. The company explained that it had been sending an employee to the old location on a weekly basis to collect mail that had been sent to that facility. In its letter, the company insisted that despite this, it only received our quantity and value questionnaire on January 28, 2008. The company also explained that it received a copy of the Preliminary Determination on January 30, 2008.

The Department's records in this case indicate that Goktas Tube received a copy of our abbreviated quantity and value questionnaire at its original location on August 2, 2008. Also, in addition to our abbreviated quantity and value questionnaire and a copy of the Preliminary Determination, Goktas Tube received a copy of our follow up letter, a copy of our August 17, 2007 letter to all interested parties (the proposed model match letter), a copy of the September 7, 2007, Memorandum to Stephen Claeys from Fred Baker (the respondent selection memorandum), and our September 7, 2007, letter to all interested parties (the public service list letter)² at its previous location. Our records indicate that our follow up letter, the proposed model match letter, the respondent selection memorandum, and the public service list letter were received at Goktas Tube's original location on August, 20, 2007, August 20, 2007, September, 10, 2007, and September, 10, 2007, respectively. See Memorandum to the File, dated March, 28, 2008. Goktas Tube made no mention of any of these other documents in its March 10, 2008, letter.

² See Memorandum to the File, dated August 17, 2007.

Despite Goktas Tube's claim that it did not receive our quantity and value questionnaire until January 28, 2008, we note that, according to its own account, the company did have a copy of our quantity and value questionnaire in its possession for six weeks before it notified the Department of the situation. Further, the company gave no explanation for this delay in its March 10, 2008, letter. On this basis, we conclude that Goktas Tube had the opportunity to contact the Department immediately when it realized the situation, but failed to do so. Therefore, we continue to conclude that Goktas Tube has failed to cooperate to the best of its ability, and accordingly, that the use of adverse facts available is warranted for Goktas Tube under sections 776 (a)(2) and (b) of the Act.

As we explained in the Preliminary Determination, the rate of 41.07 percent we selected as the adverse facts-available rate is the highest margin alleged in the petition. As discussed in the Preliminary Determination, we corroborated the adverse facts-available rate pursuant to section 776(c) of the Act.

All-Others Rate

As explained in the Preliminary Determination, we continue to assign as the all-others rate a simple average of the rates in the petition, that is, 27.04 percent. See Preliminary Determination, at 5513 and 5514.

Final Determination of Investigation

We determine that the following weighted-average dumping margins exist for the period April 1, 2006, through March 31, 2007:

Weighted-Average Producer/Exporter | Margin (Percentage)
Guven Boru Profil Sanayii ve Ticaret Limited Sirketi | 41.71
MMZ Onur Boru Profil Uretim San. ve Tic. A.S | 41.71
Anadolu Boru | 41.71
Ayata Metal Industry | 41.71
Goktas Tube/Goktas Metal | 41.71
Kalibre Boru Sanayi ve Ticaret A.S. | 41.71
Kerim Celik Mamulleri Imalat ve Ticaret | 41.71
Ozgur Boru | 41.71
Ozmak Makina ve Elektrik Sanayi | 41.71
Seamless Steel Tube and Pipe Co. (Celbor) | 41.71
Umran Steel Pipe Inc. | 41.71
Yusan Industries, Ltd. | 41.71
Borusan Mannesmann Boru | 27.04
Erbosan Erciyas Boru Sanayii ve Ticaret A.S. | 27.04
Noksel Steel Pipe Co. | 27.04
Ozborsan Boru San. ve Tic. A.S. | 27.04
Ozdemir Boru Sanayi ve Ticaret Ltd. Sti. | 27.04
Toscelik Profil ve Sac End. A.S | 27.04
Yucel Boru ve Profil Endustrisi A.S. | 27.04
All Others | 27.04

Continuation of Suspension of Liquidation

Pursuant to section 735(c)(1)(B) of the Act and 19 CFR 351.211(b)(1), we will instruct U.S. Customs and Border Protection (CBP) to continue to suspend liquidation of all entries of subject merchandise from Turkey entered, or withdrawn from warehouse, for consumption on or after January 30, 2008, the date of the publication of the Preliminary Determination. We will instruct CBP to require a cash deposit or the posting of a bond equal to the weighted-average margin, as indicated in the chart above, as follows: (1) the rate for the mandatory respondents will be the rate we have determined in this final determination; (2) if the exporter is not a firm identified in this investigation but the producer is, the rate will be the rate established for the producer of the subject merchandise; (3) the rate for all other producers or exporters will be 27.04 percent. These suspension-of-liquidation instructions will remain in effect until further notice.

International Trade Commission Notification

In accordance with section 735(d) of the Act, we have notified the International Trade Commission (ITC) of our final determination. As our final determination is affirmative, and in accordance with section 735(b)(2) of the Act, the ITC will determine, within 45 days, whether the domestic industry in the United States is materially injured, or threatened with material injury, by reason of imports or sales (or the likelihood of sales) for importation of the subject merchandise. If the ITC determines that material injury or threat of material injury does not exist, the proceeding will be terminated and all securities posted will be refunded or canceled. If the ITC determines that such injury does exist, the Department will issue an antidumping duty order directing CBP to assess antidumping duties on all imports of the subject merchandise entered, or withdrawn from warehouse, for consumption on or after the effective date of the suspension of liquidation.

Notification Regarding APO

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published pursuant to sections 735(d) and 777(i)(1) of the Act.

Dated: April 7, 2008.
David M. Spooner,
Assistant Secretary for Import Administration.

[FR Doc. E8-7833 Filed 4-10-08; 8:45 am]

BILLING CODE 3510-DS-S